DEPARTMENT OF THE INTERIOR

Bureau of Indian Affairs

Submission of Agency Information Collection the Office of Management and Budget

AGENCY: Bureau of Indian Affairs, Interior.

ACTION: Notice.

SUMMARY: The Bureau of Indian Affairs (BIA) is submitting this information collection to the Office of Management and Budget for reinstatement of the Indian Child Welfare Annual Report form. The information collected will aid the BIA in fulfilling requirements of law. This reinstatement meets the requirements of the Paperwork Reduction Act of 1995.

DATES: Submit comments on or before June 2, 2008.

ADDRESSES: Interested parties are invited to submit written comments regarding this proposal to the Desk Officer of the Department of the Interior by facsimile to 202-395-6566. You may also send comments by e-mail to: OIRA_DOCKET@omb.eop.gov.

Copies of comments should refer to the proposal by name and/or OMB Control Number and should be sent to Kevin Sanders, Acting Chief, Office of Indian Services, Bureau of Indian Affairs, Department of the Interior, 1849 C Street, NW., MS-4513-MIB, Washington, DC 20240. Telephone (202) 513-7621.

FOR FURTHER INFORMATION CONTACT: Copies of the collection of information form or requests for additional information should be directed to Kevin Sanders, Bureau of Indian Affairs, Department of Interior, 1849 C Street, NW., MS-4513-MIB, Washington, DC 20240. Telephone (202) 513-7621.

SUPPLEMENTARY INFORMATION:

I. Abstract

The information collection required by the use of this form is necessary to comply with Public Law 95-608, the Indian Child Welfare Act, and as codified in 25 CFR part 23, Indian Child Welfare Act (ICWA). This information is collected through the use of a consolidated caseload form by tribal ICWA program directors who are the providers of the ICWA services. The information is used to determine the extent of service needs in local Indian communities, assessment of the ICWA program effectiveness, and to provide data for the annual program budget justification. The responses to this request for information collection are voluntary and the aggregated report is not considered confidential. The public is not required to respond unless a currently valid OMB control number is displayed.

II. Request for Comments

A request for comments was published January 28, 2008 (73 FR 5207). No comments were received.

You may submit comments to OMB at the address provided in the ADDRESSES section with a copy to the Bureau of Indian Affairs within 30 days concerning the following:

(a) The necessity of this information collection for the proper performance of the functions of the agency, including whether the information will have practical utility;

(b) The accuracy of the agency's estimate of the burden (hours and cost) of the collection of information, including the validity of the methodology and assumptions used;

(c) Ways we could enhance the quality, utility and clarity of the information to be collected; and,

(d) Ways we could minimize the burden of the collection of the information on the respondents, such as through the use of automated collection techniques or other forms of information technology.

Please note that an agency may not sponsor nor request, and an individual need not respond to, a collection of information unless it has a valid OMB Control Number. Please note that all comments received will be available for public review. Before including your address, phone number, e-mail address or other personally identifiable information, be advised that your entire comment—including your personally identifiable information—may be made public at any time. While you may request that we withhold your personally identifiable information, we cannot guarantee that we will be able to do so. We do not consider anonymous comments. All comments from representatives of businesses or organizations will be made public in their entirety.

OMB is required to respond to this request within 60 days after publication of this notice in the Federal Register, but may respond after 30 days; therefore, your comments should be submitted to OMB within 30 days of publication to assure maximum consideration.

III. Data

Title: Department of the Interior, Bureau of Indian Affairs, Indian Child Welfare Act Annual Report, 25 CFR part 23.

OMB Control Number: 1076-0131.

Type of Review: Reinstatement.

Brief Description of Collection: Indian tribes are required to collect selected data on Indian child welfare cases and submit them to the Bureau for consolidation. This data is useful on a local level, to the tribes and tribal organizations that collect it, for case management purposes and on nationwide bases for planning and budget purposes.

Respondents: Indian tribes or tribal entities who are operating programs for Indian tribes.

Number of Respondents: 536.

Estimated Time per Response: 30 minutes.

Frequency of Response: Quarterly.

Estimated Annual Burden to Respondents: 1072 hours.

Dated: April 25, 2008.
Sanjeev “Sonny” Bhagowalia,
Chief Information Officer—Indian Affairs.

[FR Doc. E8-9528 Filed 4-30-08; 8:45 am]

BILLING CODE 4310-4J-P